DEPARTMENT OF ENERGY

Federal Energy Regulatory Commission

[Docket No. RP01-46-001]

Carnegie Interstate Pipeline Company; Notice of Tariff Filing

November 28, 2000.

Take notice that on November 21, 2000, Carnegie Interstate Pipeline Company (CIPCO), tendered for filing as part of its FERC Gas Tariff, Original Volume No. 1, the following revised tariff sheets, with an effective date of November 1, 2000:

Original Tariff Sheet No. 115A

First Revised Tariff Sheet No. 116

CIPCO states that these tendered sheets are filed in compliance with Order No. 587-L, issued in Docket No. RM96-1-014 by the Federal Energy Regulatory Commission on June 30, 2000 and implements 18 CFR 284.(c)(ii), regarding the netting and trading of imbalances on CIPCO's system.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30736 Filed 12-1-00; 8:45 am]

BILLING CODE 6717-01-M